DEPARTMENT OF ENERGY

Federal Energy Regulatory Commission

Combined Notice of Filings #2

Take notice that the Commission received the following electric rate filings:

Docket Numbers: ER13-821-005.

Applicants: Scrubgrass Generating Company, L.P.

Description: Notice of Non-Material Change in Status of Scrubgrass Generating Company, L.P.

Filed Date: 5/5/14.

Accession Number: 20140505-5200.

Comments Due: 5 p.m. ET 5/27/14.

Docket Numbers: ER13-2301-002.

Applicants: Dominion Energy Marketing, Inc.

Description: Compliance Filing—Supplement to Amdmt of April 21 to be effective 10/1/2013.

Filed Date: 5/5/14.

Accession Number: 20140505-5148.

Comments Due: 5 p.m. ET 5/15/14.

Docket Numbers: ER14-1876-000.

Applicants: Arizona Public Service Company.

Description: Service Agreement No. 331—Letter Agreement with IID—Yucca Power Plant to be effective 9/1/2010.

Filed Date: 5/5/14.

Accession Number: 20140505-5137.

Comments Due: 5 p.m. ET 5/27/14.

Docket Numbers: ER14-1877-000.

Applicants: Entergy Arkansas, Inc.

Description: Entergy Arkansas, Inc. submits Notices of Cancellation of power coordination and interchange agreements.

Filed Date: 5/5/14.

Accession Number: 20140505-5197.

Comments Due: 5 p.m. ET 5/27/14.

Docket Numbers: ER14-1878-000.

Applicants: Allegheny Energy Supply Company, LLC.

Description: Allegheny Energy Supply Co., LLC Reactive Power Rate Schedule FERC No. 2 to be effective 12/31/9998.

Filed Date: 5/5/14.

Accession Number: 20140505-5220

Comments Due: 5 p.m. ET 5/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2014.
Kimberly D. Bose,
Secretary.

[FR Doc. 2014-10882 Filed 5-12-14; 8:45 am]

BILLING CODE 6717-01-P